DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended (19 U.S.C. 1641), and the Customs Regulations (19 CFR 111.51), the following Customs broker local permits are canceled without prejudice.

Name | Permit No. | Issuing port
Ameri-Can Customshouse Brokers Inc | 88-20 | Buffalo.
T.H. Weiss | D-05-92 | Dallas.
Elizabeth Nimmo-Price | 29-97-032 | Portland.
Miguel Rodriguez | 496047 | San Juan.
Robin K. Flaherty | 28-01-NV1 | San Francisco.
Trans Air Marine | 797 | New York.
UPS Customhouse Brokerage | 579 | New York.
Martin Strauss Air Freight | 885 | New York.
Robert O. Kechian | 974 | New York.
GPS Customhouse Brokerage | 10-03-W22 | New York.

Dated: March 18, 2004.
Jayson P. Ahern,
Assistant Commissioner, Office of Field Operations.

[FR Doc. 04-7386 Filed 3-31-04; 8:45 am]

BILLING CODE 4820-02-P